DEPARTMENT OF HEALTH AND HUMAN SERVICES

National Institutes of Health

Office of the Director, National Institutes of Health; Amended Notice of Meeting

Notice is hereby given of a change in the meeting of the Advisory Committee to the Director, NIH, June 6, 2002, 8:30 AM to June 6, 2002, 4:30 PM, 31 Center Drive, Building 31, Room 4C32 (NIAMS Conference Room), Bethesda, MD, 20892 which was published in the Federal Register on May 22, 2002, 67 FR 97.

The Advisory Committee to the Director, NIH, will be meeting in Conference 10, Building 31C, National Institutes of Health, Bethesda, Maryland. The meeting date and time remain the same. The meeting is open to the public.

Dated: May 23, 2002.
LaVerne Y. Stringfield,
Director, Office of Federal Advisory Committee Policy.

[FR Doc. 02-13717 Filed 5-30-02; 8:45 am]

BILLING CODE 4140-01-M